DEPARTMENT OF ENERGY

Federal Energy Regulatory Commission

[ Docket No. AD12-12-000]

Coordination Between Natural Gas and Electricity Markets; Supplemental Notice of Technical Conferences

On July 5, 2012, the Federal Energy Regulatory Commission (Commission) issued a notice scheduling a series of regional technical conferences on the issue of gas-electric coordination.¹ This supplemental notice contains additional information regarding the time and venue of each conference. The conferences are free of charge and open to the public. Commission members may participate in the conferences.

¹ Coordination between Natural Gas and Electricity Markets, Docket No. AD12-12-000 (July 5, 2012) (Notice of Technical Conferences) (http://elibrary.ferc.gov/idmws/common/opennat.asp?fileID=13023450); 77 FR 41184 (July 12, 2012) (http://www.gpo.gov/fdsys/pkg/FR-2012-07-12/pdf/2012-16997.pdf).

The regional technical conferences will be held on the following dates, at the following venues:

Central | August 6, 2012 | St. Louis, MO, Hilton St. Louis at the Ballpark, 1 South Broadway, St. Louis, MO, 63102, USA, Tel: 1-314-421-1776, 1-877-845-7354 (toll free).
Northeast | August 20, 2012 | Boston, MA, Hyatt Harborside at Boston's Logan International Airport, 101 Harborside Drive, Boston, MA, 02128, USA, Tel: 1-617-568-1234, 1-888-421-1442 (toll free).
Southeast | August 23, 2012 | Washington, DC, FERC HQ.
West | August 28, 2012 | Portland, OR, DoubleTree by Hilton Hotel Portland, 1000 NE., Multnomah Street, Portland, OR, 97232, USA, Tel: 1-503-281-6111, 1-800-996-0510 (toll free).
Mid-Atlantic | August 30, 2012 | Washington, DC, FERC HQ.

Each conference will begin at 9 a.m. and end at approximately 5:30 p.m. The dress code for the conferences will be business casual. Subsequent notices will be issued specifying the agenda and roundtable participants for each conference.

The conferences will not be transcribed. However, there will be a free webcast of the conferences held at FERC HQ and a free audiocast of the conferences held offsite. The webcasts and audiocasts will allow persons to view or listen to the conference, but not participate. Anyone with Internet access who desires to listen to a conference can do so by navigating to www.ferc.gov's Calendar of Events and locating the conference in the Calendar. Each conference will contain a link to its webcast or audiocast, as applicable. The Capitol Connection provides technical support for webcasts and audiocasts and offers the option of listening to the meeting via phone-bridge for a fee. If you have any questions, visit www.CapitolConnection.org or call 703-993-3100.

If you have not already done so, those that plan to attend a conference are strongly encouraged to complete the registration form located at: www.ferc.gov/whats-new/registration/nat-gas-elec-mkts-form.asp. If you plan to attend more than one conference, please register separately for each conference.

As provided for in the July 5th notice, those wishing to participate in a roundtable should complete the request form located at www.ferc.gov/whats-new/registration/nat-gas-elec-mkts-speaker-form.asp by the close of business on July 19, 2012. The conference will be organized as a roundtable discussion of the topics identified in the July 5th notice and Commission staff will moderate the discussion of each topic. Roundtable participants will not be giving presentations or providing opening remarks. Time permitting, comments or questions from those attending the conference, but not participating in the roundtable, will be permitted. If you would like to participate in more than one roundtable, please complete a separate request form for each conference. Due to time and seating constraints, we may not be able to accommodate all those interested in participating in the roundtables.

Information on the conferences will also be posted on the Web site www.ferc.gov/industries/electric/indus-act/electric-coord.asp, as well as the Calendar of Events on the Commission's Web site www.ferc. gov, prior to the conferences.

Commission conferences are accessible under section 508 of the Rehabilitation Act of 1973. For accessibility accommodations, please send an email to accessibility@ferc.gov or call toll free 1-866-208-3372 (voice) or 202-208-8659 (TTY), or send a Fax to 202-208-2106 with the required accommodations.

For more information about the regional technical conferences, please contact:

Pamela Silberstein, Federal Energy Regulatory Commission, 888 First Street NE., Washington, DC 20426, (202) 502-8938, Pamela.Silberstein@ferc.gov.

Sarah McKinley, Federal Energy Regulatory Commission, 888 First Street NE., Washington, DC 20426, (202) 502-8004, Sarah.McKinley@ferc.gov.

Dated: July 17, 2012.
Kimberly D. Bose,
Secretary.

[FR Doc. 2012-17921 Filed 7-23-12; 8:45 am]

BILLING CODE 6717-01-P